ENVIRONMENTAL PROTECTION AGENCY

[OW-2003-0014; FRL-7534-3]

Agency Information Collection Activities; Submission to OMB for Review and Approval; Comment Request; Surveys To Determine the Effectiveness of No-Discharge Zones (NDZ) for Vessel Sewage and Marine Sanitation Devices, EPA ICR Number 2107.01

AGENCY: Environmental Protection Agency (EPA).

ACTION: Notice.

SUMMARY: In compliance with the Paperwork Reduction Act (44 U.S.C. 3501 et seq.), this document announces that an Information Collection Request (ICR) has been forwarded to the Office of Management and Budget (OMB) for review and approval. This is a request for a new collection. This ICR describes the nature of the information collection and its estimated burden and cost.

DATES: Additional comments may be submitted on or before August 21, 2003.

ADDRESSES: Submit your comments, referencing docket ID number OW-2003-0014, to (1) EPA at: online using EDOCKET (our preferred method), by email to OW-Docket@epa.gov, or by mail to: EPA Docket Center, Environmental Protection Agency, Water Docket, EPA West, 4101T, 1200 Pennsylvania Ave., NW., Washington, DC 20460, and (2) OMB at: Office of Information and Regulatory Affairs, Office of Management and Budget (OMB), Attention: Desk Officer for EPA, 725 17th Street, NW., Washington, DC 20503.

FOR FURTHER INFORMATION CONTACT: James Woodley, Oceans and Coastal Protection Division, Office of Water, Environmental Protection Agency, 4504T, 1200 Pennsylvania Ave., NW., Washington, DC 20460; telephone number: (202) 566-1287; fax number: (202) 566-1546; e-mail address: woodley.james@epa.gov.

SUPPLEMENTARY INFORMATION: EPA has submitted the following ICR to OMB for review and approval according to the procedures prescribed in 5 CFR 1320.12. On March 27, 2003, (68 FR 14975), EPA sought comments on this ICR pursuant to 5 CFR 1320.8(d). EPA received 20 sets of comments and addressed them in a separate document entitled, “Response to Comments on the March 27, 2003 Proposed Information Collection Request: Surveys to Determine the Effectiveness of No-Discharge Zones for Vessel Sewage and Marine Sanitation Devices.” A copy of this document can be viewed or obtained from the public docket. Information pertaining to accessing the materials in the docket is explained below. None of the comments suggested that EPA not conduct the proposed surveys. The comments were from States, a U.S. Territory, non governmental organizations, trade associations, a marine sanitation device (MSD) manufacturer, a laboratory, and private citizens. The vast majority of the comments provided information regarding the potential questions that the surveys should ask. Some provided information regarding the perception of the effectiveness of the current no-discharge zones (NDZs) and MSDs, and additional comments provided recommendations on how EPA should modify the current Vessel Sewage Discharge Program. Lastly, some of the respondents offered their assistance in this effort.

EPA has established a public docket for this ICR under Docket ID No. OW-2003-0014, which is available for public viewing at the Water Docket in the EPA Docket Center (EPA/DC), EPA West, Room B102, 1301 Constitution Ave., NW., Washington, DC. The EPA Docket Center Public Reading Room is open from 8:30 a.m. to 4:30 p.m., Monday through Friday, excluding legal holidays. The telephone number for the Reading Room is (202) 566-1744, and the telephone number for the Water Docket is (202) 566-2426. An electronic version of the public docket is available through EPA Dockets (EDOCKET) at http://www.epa.gov/edocket. Use EDOCKET to submit or view public comments, access the index listing of the contents of the public docket, and to access those documents in the public docket that are available electronically. Once in the system, select “search,” then key in the docket ID number identified above.

Any comments related to this ICR should be submitted to EPA and OMB within 30 days of this notice. EPA's policy is that public comments, whether submitted electronically or on paper, will be made available for public viewing in EDOCKET as EPA receives them and without change, unless the comment contains copyrighted material, confidential business information (CBI), or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to http://www.epa.gov/edocket.

Title: Surveys to Determine the Effectiveness of No-Discharge Zones for Vessel Sewage and Marine Sanitation Devices.

Abstract: This ICR is for a series of surveys to be conducted to determine the effectiveness of NDZs for vessel sewage and MSDs in removing harmful pollutants from the waste stream of the device. This ICR requests approval to collect information from boat owners and operators, marina owners and operators, and State and local government officials regarding the effectiveness of NDZs. It also requests approval to collect information regarding the effectiveness of MSDs in removing harmful pollutants from the waste stream of the device. This information will be gathered from MSD manufacturers and U.S. Coast Guard accepted independent laboratories.

A survey will be developed for boat owners and operators to address the boater's experience with using pump-out or dump facilities in NDZs. The survey will collect general information regarding the respondent's boating activity and will seek information on whether the pump-out or dump facilities were working. It will address whether the boater would use the facilities if they were available, and how often the boaters actually use the facilities. It will also seek information on the boater's knowledge about NDZs. Respondents will be selected from North-Atlantic States, Mid-Atlantic States, South-Atlantic States, California, and the Great Lakes that contain NDZs. Approximately 1,400 respondents from the geographical regions will be selected for response. EPA predicts that completed surveys from about 1,200 boat owners and operators will be received. The information collection will be voluntary and will not include CBI.

A survey will be developed for marina owners and operators located in a particular NDZ to seek general information on the pump-out and dump facilities operations, to address the downtime of these facilities, and their use by boaters. It will seek information regarding the marina owner/operator's knowledge of NDZs. Respondents will be selected from North-Atlantic States, Mid-Atlantic States, South-Atlantic States, California, and the Great Lakes that contain NDZs. Approximately 100 marina owners or operators from the geographical regions will be selected for response. EPA predicts that completed surveys from about 75 marina owners and operators will be received. The information collection will be voluntary and will not include CBI.

A survey will also be developed for State and local government officials to determine if the designation of NDZs has been effective in addressing water quality issues of the particular water body, if boaters were in compliance with NDZ requirements, and the roles and responsibilities associated with the NDZ. Respondents will be selected from North-Atlantic States, Mid-Atlantic States, South-Atlantic States, California, and the Great Lakes that contain NDZs. Approximately 80 respondents from the geographical regions will be selected for response. EPA predicts that about 54 State and local government officials will complete the survey. The information collection will be voluntary and will not include CBI. The information collected from these surveys will be used to assess the overall effectiveness of NDZs for vessel sewage established under Clean Water Act section 312(f)(3) to help determine if modifications to the program are needed.

An additional survey will be developed to review current MSD technology. The information on MSDs that will be requested includes effluent constituents and their concentrations; bacteria eradication processes and suspended solids removal; cost; and installation. This information will be used to help determine the effectiveness of current MSD technologies and will be used to collect information to assist EPA in promulgating regulations implementing Title XIV: Certain Alaskan Cruise Ship Operations. Approximately 60 MSD manufacturers and 8 U.S. Coast Guard accepted independent laboratories will be selected for response. EPA predicts that about 30 MSD manufacturers and 7 U.S. Coast Guard accepted independent laboratories will complete the survey. Responding to the collection of information will be voluntary. Information collected from these entities that may be CBI and is covered by a CBI claim will be treated in accordance with the procedures set forth in 40 CFR part 2, subpart B.

EPA estimates that the respondent total burden and cost associated with this ICR is 474 hours, reflecting $13,053. The Agency burden and cost is estimated at 6,672 hours, reflecting $282,642.

An agency may not conduct or sponsor, and a person is not required to respond to, a collection of information unless it displays a currently valid OMB control number. The OMB control numbers for EPA's regulations in 40 CFR are listed in 40 CFR part 9 and are identified on the form and/or instrument, if applicable.

Burden Statement: The annual public reporting and record keeping burden for this collection of information is estimated to average 21 minutes per response. Burden means the total time, effort, or financial resources expended by persons to generate, maintain, retain, disclose, or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Boat owners and operators, Marina owners and operations, State and local government officials, Marine Sanitation Device manufacturers, U.S. Coast Guard accepted independent laboratories.

Estimated Number of Respondents: 1,366.

Frequency of Response: one-time collection.

Estimated Total Annual Hour Burden: 474.

Estimated Total Annual Cost: $13,053, includes $0 annualized capital or O&M costs.

Dated: July 2, 2003.
Doreen Sterling,
Acting Director, Collection Strategies Division.

[FR Doc. 03-18613 Filed 7-21-03; 8:45 am]

BILLING CODE 6560-50-P